DEPARTMENT OF JUSTICE

Federal Bureau of Investigation

[Docket No. FBI-155]

Federal Bureau of Investigation; Records Management Division; National Name Check Program Section; Revised User Fee

AGENCY: Federal Bureau of Investigation (FBI), Justice.

ACTION: Notice.

SUMMARY: This notice establishes a revised user fee for federal agencies requesting name-based, non-criminal justice background checks of the Federal Bureau of Investigation's (FBI) Central Records System through the National Name Check Program (NNCP). The total resource costs associated with providing these name check services have been calculated to ensure full reimbursement to the FBI. The FBI is also authorized to charge an additional amount to defray expenses required to update and improve the NNCP's technological infrastructure, which supports the automation of processes involving name-based background checks. This notice explains the methodology used to calculate revised fees and also provides the new fee schedule. The NNCP is replacing its current multiple fee structure with a single user fee.

DATES: This fee schedule is effective February 1, 2020.

FOR FURTHER INFORMATION CONTACT: Mr. Antony A. Jung, Section Chief, National Name Check Program Section, Records Management Division, FBI, 170 Marcel Drive, Winchester, Virginia 22602.

SUPPLEMENTARY INFORMATION:

I. Background

On June 7, 2010, the FBI published the Final Rule (75 FR 24796) setting forth the FBI Director's authority to establish and collect fees for providing name-based background checks conducted by the NNCP of the Records Management Division. The Final Rule explains the methodology used to calculate the fees and provides that future fee adjustments will be made by notice published in the Federal Register. In accordance with the requirements of 28 CFR 20.31(e)(3), the FBI is required to periodically review the amount it collects for the NNCP in order to determine the current cost of processing name checks for non-criminal justice purposes.

II. Revised Fee

In October of 2018, the FBI retained a contractor to conduct an independent user fee study for the NNCP. The NNCP currently charges different fees, depending on whether the request is submitted manually or electronically or if expedited processing is required. The fee charged for electronic submissions also varies depending on the level of analysis that the NNCP must perform. The current fee structure is as follows:

NNCP's Current User Fee Schedule
Service | Current fee
Electronic Submission:
Batch Process Only | $2.50
Batch + File Analysis | 42.00
Manual Submission | 66.50
Expedited Submission | 66.50

As a result of the fee study, the contractor recommended that the FBI combine the current fee categories, which have been in effect since 2010, into a single fee. This recommendation was based on three factors:

• Improvement in information technology capabilities: The NNCP's new web interface enables all customers to submit name checks electronically with options to adjust their priority. The technology advancements have resulted in the elimination of the Manual submission type and have so drastically reduced the number of expedited submissions that they no longer warrant their own fee categories.

• Lack of customer choice: Under the existing fee schedule, NNCP customers do not choose between an Electronic or File Analysis level of service and the associated fee. Rather, NNCP performs an electronic name-based background check on all requests. If the automated search algorithm identifies the presence of a record, then NNCP's analysts conduct file analysis and the program charges an additional fee. While every name check request begins with an Electronic Batch level of service, approximately 40% also require an additional File Analysis level of service, which comes with the additional fee. Neither the customer nor NNCP know which level of service will be required until after the customer has submitted the name check request and NNCP has completed its services. This lack of certainty has rendered it challenging for customers to budget for name check services. The new, single fee will provide customers with more certainty as to how much they will owe based on their estimated volume of name check requests each year.

• Less administrative burden: A single fee reduces the administrative burden associated with the billing and collections of multiple fee categories and simplifies the budgeting process.

Information Used To Calculate the Revised Fee

Using Fiscal Year (FY) 2018 cost information, the FBI conducted a fee study to determine its cost for conducting name-based background checks. Once that study was complete, the FBI conducted further analysis to account for anticipated programmatic changes and staffing levels moving forward in FY 2020, as well as forecasted production volumes to determine future automation and enhancement costs. The FBI used these inputs to project total costs for name-based, non-criminal justice name checks for FY 2020. The single fee structure simplifies this calculation by dividing total costs by total volume to arrive at a single fee for each name check request.

Product/service | FY 2020 volume forecast
FBI Investigative Files Check | 3,313,844

Cost pool | Forecasted FY 2020 cost
Cost of Name-Based Checks | $63,225,188
Automation and Enhancement | 6,414,111
Total | $69,639,299

Unit costs (cost pool divided by volume) and the corresponding fee rate are rounded up to the nearest $0.25 increment.

Cost pool categories | Unit rate
Cost of Name-Based Checks | $19.25
Automation and Enhancement | 2.00
FBI Investigative Files Check | 21.25

This revised fee, of $21.25 per check, will become effective on February 1, 2020.

Dated: December 19, 2019.
Christopher A. Wray,
Director, Federal Bureau of Investigation.

[FR Doc. 2019-28165 Filed 12-27-19; 8:45 am]

BILLING CODE 4410-02-P